FEDERAL TRADE COMMISSION

RIN 3084-AA98

Telemarketing Sales Rule Fees

AGENCY: Federal Trade Commission.

ACTION: Notice.

SUMMARY: The Federal Trade Commission (the “Commission” or “FTC”) is giving notice that there will be no fee increase for entities accessing the National Do Not Call Registry (the “Registry”) for fiscal year 2016.

ADDRESSES: Requests for copies of this document should be sent to this address: National Do Not Call Registry Program, Federal Trade Commission, 600 Pennsylvania Avenue NW., Mail Stop CC-9232, Washington, DC 20580. Copies of this document are also available on the Internet at the Commission's Web site: https://www.ftc.gov.

FOR FURTHER INFORMATION CONTACT: Nicholas Mastrocinque, (202) 326-3188, Bureau of Consumer Protection, Federal Trade Commission, 600 Pennsylvania Avenue NW., Mail Stop CC-9232, Washington, DC 20580.

SUPPLEMENTARY INFORMATION: The Do-Not-Call Registry Fee Extension Act of 2007 (Pub. L. 110-188, 122 Stat. 635) (“Act”), mandates a specific fee structure to use in determining the fees for accessing the Registry. According to the Act, for each year beginning after fiscal year 2009, the dollar amounts charged shall be increased by an amount equal to the amounts specified in the Act, whichever fee is applicable, multiplied by the percentage (if any) by which the average of the monthly consumer price index (for all urban consumers published by the Department of Labor) (“CPI”) for the most recently ended 12-month period ending on June 30 exceeds the CPI for the 12-month period ending June 30, 2008. The Act also states that any increase shall be rounded to the nearest dollar and that there shall be no increase in the dollar amount if the CPI change is less than 1 percent. We measure this change in CPI from the time of the previous fee increase.

Last year, for fiscal year 2015, we calculated an increase in the CPI of 1.56 percent, and adjusted the fees accordingly (79 FR 51477 (August 29, 2014)). The average value of the CPI for the 12-month period ending June 2014 was 234.966; the average for the 12 months ending June 2015 was 236.677. This is an increase of 0.73 percent, less than the one percent threshold to trigger an increase.

As this falls below the statute's 1 percent required change in the CPI, there shall be no fee access increase. Therefore, the fees will remain at the current level of $60 per area code, with a maximum fee of $16,482. The access fee for each area code during the second six months of an entity's annual subscription period remains at $30. Users will still be able to access the first five area codes free of charge, and organizations that are not required to comply with the Registry will still be able to access it if they choose to while remaining exempt from fees.

By direction of the Commission.
Donald S. Clark,
Secretary.

[FR Doc. 2015-25081 Filed 10-1-15; 8:45 am]

BILLING CODE 6750-01-P